DEPARTMENT OF TRANSPORTATION

Federal Railroad Administration

[Docket No. FRA-1999-6439, Notice No. 25]

Adjustment of Nationwide Significant Risk Threshold

AGENCY: Federal Railroad Administration (FRA), Department of Transportation (DOT).

ACTION: Notice of Adjustment of Nationwide Significant Risk Threshold.

SUMMARY: Under title 49 Code of Federal Regulations, Use of Locomotive Horns at Public Highway-Rail Grade Crossings, FRA is updating the Nationwide Significant Risk Threshold (NSRT). This action is needed to ensure the public has the proper permissible risk threshold to evaluate risk resulting from prohibiting routine locomotive horn sounding at highway-rail grade crossings located in quiet zones. This is the seventh update to the NSRT and it is increasing from 14,347 to 14,723.

DATES: The effective date of this notice is April 25, 2017.

FOR FURTHER INFORMATION CONTACT: Mr. Ron Ries, Office of Railroad Safety, FRA, 1200 New Jersey Avenue SE., Washington, DC 20590, (202) 493-6299, Ronald.Ries@dot.gov; or Ms. Kathryn Gresham, Office of Chief Counsel, FRA, 1200 New Jersey Avenue SE., Washington, DC 20590, (202) 493-6038, Kathryn.Gresham@dot.gov.

SUPPLEMENTARY INFORMATION:

Background

The NSRT is an average of the risk indexes for gated public crossings nationwide where train horns are routinely sounded. FRA developed this risk index to serve as one threshold of permissible risk for quiet zones established across the nation under 49 CFR part 222, Use of Locomotive Horns at Public Highway-Rail Grade Crossings. Thus, a community trying to establish and/or maintain its quiet zone, under 49 CFR part 222, can compare the Quiet Zone Risk Index calculated for its specific crossing corridor to the NSRT to determine whether sufficient measures have been taken to compensate for the excess risk that results from prohibiting routine sounding of the locomotive horn. In the alternative, a community can establish its quiet zone in comparison to the Risk Index With Horns, which is defined in 49 CFR 222.9 as a measure of risk to the motoring public when locomotive horns are routinely sounded at every public highway-rail grade crossing within a quiet zone.

FRA has periodically updated the NSRT since 2006. FRA last updated the NSRT in 2013, when FRA calculated the NSRT to be 14,347. 78 FR 70623, Nov. 26, 2013.

New NSRT

Using collision data over a 5-year period from 2011 to 2015, FRA has recalculated the NSRT based on formulas identified in 49 CFR part 222, appendix D. In making this recalculation, FRA noted the total number of gated crossings nationwide where train horns are routinely sounded was 44,591.

Applying the fatality rate and injury rate to the probable number of fatalities and injuries predicted to occur at each of the 44,591 identified crossings, and the predicted cost of the associated injuries and fatalities, FRA calculates the NSRT is 14,723. Accordingly, this updated NSRT value will serve as one threshold of permissible risk for quiet zones established across the nation pursuant to 49 CFR part 222.

Patrick T. Warren,
Acting Administrator.

[FR Doc. 2017-08337 Filed 4-24-17; 8:45 am]

BILLING CODE 4910-06-P